DEPARTMENT OF COMMERCE

National Oceanic and Atmospheric Administration

Marine Mammals and Endangered Species

AGENCY: National Marine Fisheries Service (NMFS), National Oceanic and Atmospheric Administration (NOAA), Commerce.

ACTION: Notice; receipt of applications for permit amendments.

SUMMARY: Notice is hereby given that the permit holders listed below have applied for an amendment to their Scientific Research Permits.

DATES: Written, telefaxed, or email comments must be received on or before December 26, 2017.

ADDRESSES: The application and related documents are available for review by selecting “Records Open for Public Comment” from the “Features” box on the Applications and Permits for Protected Species home page, https://apps.nmfs.noaa.gov, and then selecting the File No. from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application(s) would be appropriate.

FOR FURTHER INFORMATION CONTACT: Shasta McClenahan or Amy Hapeman, (301) 427-8401.

SUPPLEMENTARY INFORMATION: The subject amendments to the permits listed below are requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Notices were published in the Federal Register on the dates listed below that a permit had been issued to the below-named permit holders. To locate the Federal Register notice that announced our receipt of the application, notice of issuance, and a complete description of the research, go to www.regulations.gov and search on the permit number provided in the table below.

File No. | RIN | Permit holder | Federal Register notice of issuance | Permit issuance date
14450 | 0648-XS35 | NMFS Southeast Fisheries Science Center (Responsible Party: Bonnie Ponwith, Ph.D.), 75 Virginia Beach Drive, Miami, FL 33149 | 79 FR 13042; March 7, 2014 | March 4, 2014.
14856 | 0648-XB157 | Bruce R. Mate, Ph.D., Hatfield Marine Science Center, Oregon State University, Newport, OR 97365 | 78 FR 3346; January 21, 2014 | February 25, 2014.
16239 | 0648-XC268 | Dan Engelhaupt, Ph.D., HDR, 5700 Lake Wright Drive, Norfolk, VA 23502 | 78 FR 60852; October 2, 2013 | September 11, 2013.
17312 | 0648-XC268 | Scripps Institution of Oceanography, (Responsible Party: John Hildebrand, Ph.D.), University of California, 8635 Discovery Way, La Jolla, CA 92093 | 78 FR 60852; October 2, 2013 | September 11, 2013.
18636 | 0648-XE075 | Iain Kerr, D.H.L., Ocean Alliance, 32 Horton Street, Gloucester, MA 01930 | 81 FR 13342; March 14, 2016 | February 17, 2016.

The permit holders are requesting amendments to their respective permits to authorize take of the Gulf of Mexico Bryde's whale (Balaenoptera edeni) due to NMFS' proposed rule to list this subspecies as endangered under the ESA (81 FR 88639). Combined, the permits currently authorize the following research activities for the species: manned and unmanned aerial surveys and vessel-based surveys for passive acoustic recordings, above and underwater photography and videography, photo-identification, behavioral observations, biological sampling (feces, sloughed skin, exhaled air, and skin and blubber biopsy), tracking, and tagging (suction-cup, dart/barb, and implantable). The permit holders seek to amend their permits to add dedicated takes for the Gulf of Mexico Bryde's whale using these methods should NMFS list the species under the ESA. Details of specific methods and take numbers are available in each application for amendment. The amended permits would be valid through the respective permit's current expiration date.

If the proposed ESA listing becomes final, the Permits and Conservation Division proposes to conditionally authorize the take of Gulf of Mexico Bryde's whales so that no more than the entire population (currently estimated at 33 whales) may be taken annually by methods that may result in Level A harassment (mainly biopsy and tagging) across all permits combined. Authorized takes may be re-authorized and reallocated among permits on an annual or other specified basis after evaluating the status of the species, management needs, researchers' plans, and reported takes by permit holders during the prior year.

In compliance with the National Environmental Policy Act of 1969 (42 U.S.C. 4321 et seq.), an initial determination has been made that an environmental assessment (EA) is the appropriate level of analysis for these actions. A batched EA is being prepared to examine whether significant environmental impacts could result from issuance of the proposed scientific research permit amendments.

Concurrent with the publication of this notice in the Federal Register, NMFS is forwarding copies of this application to the Marine Mammal Commission and its Committee of Scientific Advisors.

Dated: November 17, 2017.
Julia Harrison,
Chief, Permits and Conservation Division, Office of Protected Resources, National Marine Fisheries Service.

[FR Doc. 2017-25340 Filed 11-22-17; 8:45 am]

BILLING CODE 3510-22-P